DEPARTMENT OF HEALTH AND HUMAN SERVICES

Agency for Toxic Substances and Disease Registry

Statement of Organization, Functions, and Delegations of Authority

Part T (Agency for Toxic Substances and Disease Registry) of the Statement of Organization, Functions, and Delegations of Authority of the Department of Health and Human Services (50 FR 25129-25130, dated June 17, 1985, as amended most recently at 69 FR 86-87, dated January 2, 2004, is amended to reflect the consolidation of the Agency for Toxic Substances and Disease Registry budget execution functions within the Financial Management Office, Office of the Chief Operating Officer, Centers for Disease Control and Prevention.

Section T-B, Organization and Functions, is hereby amended as follows:

Delete item (5) of the functional statement for the Office of the Director (TB), and insert the following: (5) provides overall programmatic direction for planning and management oversight of allocated resources, human resource management and administrative support.

Delete item (5) of the functional statement for the Office of Financial and Administrative Services (TB1), and insert the following: (5) formulates the budget and provides overall programmatic direction for planning and management oversight of allocated resources.

Delete item (1) of the functional statement for the Program Services Activity (TB612), Office of the Director (TB61), Division of Health Assessment and Consultation (TB6), and insert the following: (1) Coordiantes the development of the Division's budget and provides overall programmatic direction for planning and management oversight of allocated resources.

The Chief Operating Officer, CDC, has been delegated the authority to sign general Federal Register notices for both the CDC and ATSDR.

Dated: September 29, 2004.
William H. Gimson,
Chief Operating Officer, Centers for Disease Control and Prevention (CDC).

[FR Doc. 04-22604 Filed 10-8-04; 8:45 am]

BILLING CODE 4160-70-M